DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2002, there were six applications approved. This notice also includes information on one application, approved in May 2002, inadvertently left off the May 2002 notice and three applications, approved in August 2002, inadvertently left off the August 2002 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Applications Approved

Public Agency: City of Syracuse Department of Aviation, Syracuse, New York.

Application Number: 02-05-C-00-SYR.

Application Type: Impose and use a PFC.

PFC Level: $4.50.

Total PFC Revenue Approved in This Decision: $10,509,851.

Earliest Charge Effective Date: October 1, 2002.

Estimated Charge Expiration Date: May 1, 2005.

Class of Air Carriers Not Required To Collect PFC's: Non-scheduled/on demand air carriers filing FAA Form 1800-31.

Determination: Approved. Based on information contained in the public agency's application, the FAA has determined that the approved class accounts for less than 1 percent of the total annual enplanements at Syracuse-Hancock International Airport.

Brief Description of Project Approved for Use: Taxiway A rehabilitation.

Brief Description of Projects Approved for Collection and Use:

Rehabilitate terminal apron.

Aircraft rescue and firefighting (ARFF) station.

Decision Date: May 5, 2002.

FOR FURTHER INFORMATION CONTACT: Philip Brito, New York Airports District Office, (516) 227-3800.

Public Agency: City of Redding, California.

Application Number: 02-02-C-00-RDD.

Application Type: Impose and use a PFC.

PFC Level: $4.50.

Total PFC Revenue Approved in This Decision: $1,251,567.

Earliest Charge Effective Date: November 1, 2002.

Estimated Charge Expiration Date: April 1, 2007.

Class of Air Carriers Not Required To Collect PFC's: None.

Brief Description of Projects Approved for Collection and Use:

Terminal chairs replacement.

Purchase used pavement sweeper.

Emergency generator—ARFF living quarters.

Crack and slurry seal—airport access road.

Crack and slurry seal—taxiways.

Security fencing.

Land acquisition.

Rescue and fire equipment.

Americans with Disabilities Act lift device.

Terminal building rehabilitation—phase II.

Land acquisition (8.0 acres)—approach protection.

Master plan update.

Taxiways C, D, and E rehabilitation and repair.

General aviation apron reconstruction.

Reconstruct runway 12/30.

Land acquisition—approach protection.

Construct high speed taxiway G.

Preliminary design—ARFF station.

Emergency communication system upgrade.

Runway 16/34 reconstruction—preliminary design and pavement maintenance program.

Runway 16/34 reconstruction—phase I.

Runway 16/34 reconstruction—phase II.

Runway 34 safety area culvert.

Decision Date: August 29, 2002.

FOR FURTHER INFORMATION CONTACT: Marlys Vandervelde, San Francisco Airports District Office, (650) 876-2806.

Public Agency: Gainesville—Alachua County Regional Airport Authority, Gainesville, Florida.

Application Number: 02-02-C-00-GNV.

Application Type: Impose and use a PFC.

PFC Level: $4.50.

Total PFC Revenue Approved in This Decision: $4,637,954.

Earliest Charge Effective Date: January 1, 2003.

Estimated Charge Expiration Date: February 1, 2011.

Classes of Air Carriers Not Required To Collect PFC's: None.

Brief Description of Projects Approved for Collection and Use: Runway and taxiway rehabilitation (phase II).

Land acquisition.

Rehabilitation/strengthening of aircraft aprons.

Perimeter fence.

Reconstruct medium intensity runway lights on runway 10/28, taxiways E and C lighting and visual guidance.

Planning studies.

Drainage improvements.

Terminal renovation.

PFC administration costs.

Decision Date: August 29, 2002.

FOR FURTHER INFORMATION CONTACT: Richard Owen, Orlando Airports District Office, (407) 812-6331, extension 19.

Public Agency: County of San Luis Obispo, San Luis Obispo, California.

Application Number: 02-07-C-00-SBP.

Application Type: Impose and use a PFC.

PFC Level: $4.50.

Total PFC Revenue Approved in This Decision: $1,652,880.

Earliest Charge Effective Date: July 1, 2015.

Estimated Charge Expiration Date: July 1, 2019.

Classes of Air Carriers Not Required To Collect PFC's: Non-scheduled/on demand air carriers filing FAA Form 1800-31.

Determination: Approved. Based on information contained in the public agency's application, the FAA has determined that the approved class accounts for less than 1 percent of the total annual enplanements at San Luis Obispo County Regional Airport.

Brief Description of Projects Approved for Collection and Use:

Construction of hangar taxiways.

Construction of runway 11/29 blast pads.

Construction of airport service road.

Construction of northeast access road.

Construction of Environmental Protection Agency/National Pollution Discharge Elimination System pollution control facility.

Runway 11/29 and taxiway A extension (phase I).

Runway 11/29 and taxiway A extension (phase II).

Safety area grading and drainage.

Construction of southwest apron.

Rehabilitation/reconstruction of taxiway A.

Construction of taxiway D.

Construction of taxiway H.

Construction of taxiway M.

Acquisition of runway sweeping equipment.

Airfield lighting improvements.

Update airport master plan.

Relocate threshold, runway 25.

Construction of ARFF facility.

Construction of taxiway L.

Construction of taxiway N.

Brief Description of Disapproved Project: Install omnidirectional approach lighting system, runway 29.

Determination: Disapproved. This project is not Airport Improvement Program (AIP) eligible in accordance with paragraph 550b of FAA Order 5100.38B, AIP Handbook (May 31, 2002). Therefore, this project does not meet the requirements of § 158.15(b).

Decision Date: August 30, 2002.

FOR FURTHER INFORMATION CONTACT: Marlys Vandervelde, San Francisco Airports District Office, (650) 876-2806.

Public Agency: State of Connecticut Department of Transportation Bureau of Aviation and Ports, Windsor Locks, Connecticut.

Application Number: 10-14-C-00-BDL.

Application Type: Impose and use a PFC.

PFC Level: $3.00.

Total PFC Revenue Approved in This Decision: $1,102.000.

Earliest Charge Effective Date: March 1, 2015.

Estimated Charge Expiration Date: May 1, 2015.

Class of Air Carriers Not Required To Collect PFC's: On demand air taxi/commercial operators.

Determination: Approved. Based on information contained in the public agency's application, the FAA has determined that the approved class accounts for less than 1 percent of the total annual enplanements at Bradley International Airport.

Brief Description of Project Approved for Collection and Use: Acquire 3,000-gallon ARFF truck with elevated waterway and driver enhanced vision system.

Decision Date: September 12, 2002.

FOR FURTHER INFORMATION CONTACT: Priscilla Scott, New England Region Airports Division, (781) 238-7614.

Public Agency: State of Connecticut Department of Transportation Bureau of Aviation and Ports, Windsor Locks, Connecticut.

Application Number: 02-15-C-00-BDL.

Application Type: Impose and use a PFC.

PFC Level: $3.00.

Total PFC Revenue Approved in This Decision: $3,050,000.

Earliest Charge Effective Date: May 1, 2015.

Estimated Charge Expiration Date: September 1, 2015.

Class of Air Carriers Not Required To Collect PFC's: On demand air taxi/commercial operators.

Determination: Approved. Based on information contained in the public agency's application, the FAA has determined that the approved class accounts for less than 1 percent of the total annual enplanements at Bradley International Airport.

Brief Description of Project Approved for Collection and Use: Security improvements and training system.

Decision Date: September 12, 2002.

FOR FURTHER INFORMATION CONTACT: Priscilla Scott, New England Region Airports Division, (781) 238-7614.

Public Agency: Metropolitan Washington Airports Authority, Alexandria, Virginia.

Application Number: 02-04-C-00-IAD.

Application Type: Impose and use a PFC.

PFC Level: $4.50.

Total PFC Revenue Approved in This Decision: $88,526,169.

Earliest Charge Effective Date: May 1, 2005.

Estimated Charge Expiration Date: July 1, 2008.

Class of Air Carriers Not Required To Collect PFC's: Non-scheduled, on demand air carriers filing FAA Form 1800-31.

Determination: Approved. Based on information contained in the public agency's application, the FAA has determined that the approved class accounts for less than 1 percent of the total annual enplanements at Washington Dulles International Airport.

Brief Description of Projects Approved for Collection and Use at a $4.50 PFC Level:

Concourse B expansion—phase I.

Wetland mitigation.

Brief Description of Projects Approved for Collection and Use at a $3.00 PFC Level: Pedestrian connector to north flank garage.

Decision Date: September 16, 2002.

FOR FURTHER INFORMATION CONTACT: Eleanor Schifflin, Eastern Region Airports Division, (718) 553-3354.

Public Agency: Maryland Aviation Administration, Baltimore, Maryland.

Application Number: 02-04-C-00-BWI.

Application Type: Impose and use a PFC.

PFC Level: $4.50.

Total PFC Revenue Approved in This Decision: $371,417,115.

Earliest Charge Effective Date: June 1, 2004.

Estimated Charge Expiration Date: June 1, 2011.

Classes of Air Carriers Not Required To Collect PFC's: Part 135 on-demand air taxi/commercial operators.

Determination: Approved. Based on information contained in the public agency's application, the FAA has determined that the approved class accounts for less than 1 percent of the total annual enplanements at Baltimore Washington International Airport.

Brief Description of Projects Approved for Collection and Use at a $4.50 PFC Level:

Terminal roadway expansion and improvement.

Terminal pedestrian access expansion and improvement.

15R parallel taxiway and airfield ramp construction.

Common use terminal equipment for International terminal fit out.

Surface movement guidance control system.

Decision Date: September 17, 2002.

FOR FURTHER INFORMATION CONTACT: Eleanor Schifflin, Eastern Region Airports Division, (718) 553-3354.

Public Agency: County of Routt, Hayden, Colorado.

Application Number: 02-05-C-00-HDN.

Application Type: Impose and use a PFC.

PFC Level: $4.50.

Total PFC Revenue Approved in This Decision: $1,052,470.

Earliest Charge Effective Date: December 1, 2002.

Estimated Charge Expiration Date: August 1, 2005.

Classes of Air Carriers Not Required To Collect PFC's. None.

Brief Description of Projects Approved for Collection and Use:

Construction of taxiway B.

Runway 10/28 rehabilitation.

Americans with Disabilities Act improvements.

Security upgrades.

Land acquisition.

Snow removal equipment.

Decision Date: September 20, 2002.

FOR FURTHER INFORMATION CONTACT: Christopher Schaffer, Denver Airports District Office, (303) 342-1258.

Public Agency: City of Pensacola, Florida.

Application Number: 02-05-C-00-PNS.

Application Type: Impose and use a PFC.

PFC Level: $4.50.

Total PFC Revenue Approved in This Decision: $350,000.

Earliest Charge Effective Date: September 1, 2007.

Estimated Charge Expiration Date: December 1, 2007.

Classes of Air Carriers Not Required To Collect PFC's: Part 135 air taxi/commercial operators filing FAA Form 1800-31.

Determination: Approved. Based on information contained in the public agency's application, the FAA has determined that the approved class accounts for less than 1 percent of the total annual enplanements at Pensacola Regional Airport.

Brief Description of Projects Approved for Collection and Use: Heightened security costs.

Decision Date: September 25, 2002.

FOR FURTHER INFORMATION CONTACT: Bill Farris, Orlando Airports District Office, (407) 812-6331, extension 25.

Amendments To PFC Approvals
Amendment No., city, state | Amendment approved date | Original approved net PFC revenue | Amended approved net PFC revenue | Original estimated charge exp. date | Amended estimated charge exp. date
01-04-C-01-RNO, Reno, NV. | 08/14/02 | $16,136,446 | $6,764,830 | 02/01/03 | 06/01/02
01-12-C-03-ORD, Chicago, IL. | 08/16/02 | 1,315,327,790 | 1,340,327,790 | 10/01/16 | 12/01/16
00-02-C-01-GRI, Grand Island, NE. | 08/23/02 | 578,060 | 545,219 | 04/01/08 | 11/01/13
98-02-C-03-FLL, Fort Lauderdale, FL. | 09/24/02 | 183,627,920 | 181,471,378 | 01/01/07 | 09/01/05
01-03-C-01-FLL, Fort Lauderdale, FL. | 09/24/02 | 27,841,586 | 26,202,553 | 05/01/08 | 08/01/06
01-04-C-01-FLL, Fort Lauderdale, FL. | 09/24/02 | 30,702,199 | 44,333,391 | 08/01/09 | 03/01/08
00-03-C-01-MDT, Harrisburg, PA. | 09/26/02 | 3,715,249 | 4,206,613 | 12/01/02 | 01/01/03
*98-04-C-03-SEA, Seattle, WA. | 09/27/02 | 803,385,000 | 803,385,000 | 01/01/23 | 06/01/14
01-05-U-01-SEA, Seattle, WA. | 09/27/02 | NA | NA | 01/01/23 | 06/01/14
01-06-U-01-SEA, Seattle, WA. | 09/27/02 | NA | NA | 01/01/23 | 06/01/14
Note: The amendment denoted by an asterisk (*) include a change to the PFC level charged from $3.00 per enplaned passenger to $4.50 per enplaned passenger. For Seattle, WA, this change is effective on January 1, 2003.

Issued in Washington, DC on November 5, 2002.
Barry Molar,
Manager, Airports Financial Assistance Division.

[FR Doc. 02-28825 Filed 11-12-02; 8:45 am]

BILLING CODE 4910-13-M